DEPARTMENT OF COMMERCE

National Oceanic and Atmospheric Administration

DEPARTMENT OF THE INTERIOR

U.S. Fish and Wildlife Service

[I.D. 082803]

Marine Mammals and Endangered Species; National Marine Fisheries Service File Nos. 764-1703, 1038-1693, and 116-1691; U.S. Fish and Wildlife Service File Nos. PRT-068532, PRT-064776, and PRT-062475

AGENCIES: National Marine Fisheries Service (NMFS), National Oceanic and Atmospheric Administration (NOAA), Commerce; U.S. Fish and Wildlife Service (FWS), Interior.

ACTION: Receipt of applications for permits from NMFS and FWS.

SUMMARY: Notice is hereby given that the following applicants have applied in due form for permits from NMFS and FWS to take parts from species of marine mammals for purposes of scientific research: (1) The National Museum of Natural History, Department of Systematic Biology, MRC 108, P.O. Box 37012, Washington, D.C. 20013-7012 (File No. 764-1703/PRT-068532, Charles Potter, Principal Investigator (PI)); (2) Darla Rae Ewalt, USDA, APHIS, National Veterinary Services Laboratories, 1800 Dayton Road, Ames, Iowa 50010 (File No. 1038-1693/PRT-064776); and (3) Sea World, Inc., 7007 Sea World Drive, Orlando, Florida 32821 (File No. 116-1691/PRT-062475, Dr. Todd Robeck, PI).

DATES: Written or telefaxed comments must be received on or before November 10, 2003.

ADDRESSES: The application requests and related documents are available for review upon written request or by appointment in the following office(s): see SUPPLEMENTARY INFORMATION.

Written comments or requests for a public hearing on these requests should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Jennifer Skidmore, Amy Sloan, or Ruth Johnson (301)713-2289 or email: Jennifer.Skidmore@noaa.gov or Amy.Sloan@noaa.gov, Ruth.Johnson@noaa.gov.

SUPPLEMENTARY INFORMATION: The subject permits are requested under the authority of the Marine Mammal Protection Act of 1972, as amended (MMPA; 16 U.S.C. 1361 et seq.), the Regulations Governing the Taking and Importing of Marine Mammals (50 CFR parts 18 and 216), the Fur Seal Act of 1966, as amended (16 U.S.C. 1151 et seq.), the Endangered Species Act of 1973, as amended (ESA; 16 U.S.C. 1531 et seq.), and the regulations governing the taking, importing, and exporting of endangered and threatened species (50 CFR parts 17 and 222-226).

The National Museum of Natural History (File No. 764-1703/PRT-068532) requests a permit to salvage, collect, import/export, analyze samples, carcasses, hard and soft parts taken from pinnipeds, sirenians, sea and marine otters, and cetaceans to obtain information about the biology and life history of marine mammals and the role they play in the environment. Additionally, samples will be archived and curated at the Natural History Museum. No live animal takes are requested. A permit is requested for a period of five years.

Darla Ewalt (File No. 1038-1693/PRT-064776) requests authorization to receive from Canada tissue samples taken from legally harvested beluga whales (Delphinapterus leucas), narwhals (Monodon monoceros), walrus (Odobenus rosmarus) and ringed seals (Phoca hispida). Tissues to be imported include blood, lymph nodes, lungs and reproductive organs. These samples will be utilized in brucellosis research investigating the presence of Brucella in subsistence harvested marine mammals. The applicant is requesting a five year permit.

Sea World, Inc. (File No. 116-1691/PRT-062475) requests authorization to collect, receive, import, and export an unlimited number of pinniped and cetacean specimens including but not limited to reproductive cells and organs, urine, feces, saliva, ocular secretions, and whole blood taken from dead or captive individuals to study reproductive physiology, including endocrinology, gamete biology, and cryophysiology. Specimens may be collected under the following circumstances for dead animals: directly taken in fisheries for such animals, in countries or situations where such activity is permitted; killed incidental to fishing or other operations; found dead at sea or beached; or that died of natural causes. For captive animals, specimens may be collected from animals that are being housed in countries or situations where such activity is legal and from animals that have been behaviorally conditioned for specimen donation as part of routine husbandry procedures. Specimens may be taken at anytime of the year and in all areas worldwide where pinnipeds and cetaceans are found. The requested duration of the permit is five years.

In compliance with the National Environmental Policy Act of 1969 (42 U.S.C. 4321 et seq.), an initial determination has been made that the activities proposed is categorically excluded from the requirement to prepare an environmental assessment or environmental impact statement.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Protected Species Coordinator, Pacific Area Office, NMFS, 1601 Kapiolani Blvd., Rm, 1110, Honolulu, HI 96814-4700; phone (808)973-2935; fax (808)973-2941;

Northeast Region, NMFS, One Blackburn Drive, Gloucester, MA 01930-2298; phone (978)281-9200; fax (978)281-9371;

Southeast Region, NMFS, 9721 Executive Center Drive North, St. Petersburg, FL 33702-2432; phone (727)570-5301; fax (727)570-5320; and

U.S. Fish and Wildlife Service, Division of Management Authority, 4401 North Fairfax Drive, Arlington, VA 22203 (1-800-358-2104).

Dated: October 2, 2003.
Stephen L. Leathery, Chief, Permits, Conservation and Education Division, Office of Protected Resources, National Marine Fisheries Service.
Dated: October 2, 2003.
Charlie R. Chandler, Chief, Branch of Permits, Division of Management Authority, U.S. Fish and Wildlife Service.

[FR Doc. 03-25558 Filed 10-8-03; 8:45 am]

BILLING CODE 3510-22-S